ENVIRONMENTAL PROTECTION AGENCY

[FRL-9824-4]

Notice of Ability To Pay—Cash-out Settlement Agreement for the Jefferson City Residential Yards Site Under Comprehensive Environmental Response, Compensation and Liability Act

AGENCY: Environmental Protection Agency (EPA).

ACTION: Notice; request for comment.

SUMMARY: As required by the Comprehensive Environmental Response, Compensation, and Liability Act of 1980, as amended (CERCLA), notice is hereby given that a Section 122(h)(1) cashout settlement agreement for ability to pay peripheral parties is proposed by the United States, on behalf of the Environmental Protection Agency (EPA), and Montana Tunnels Mining, Inc. (MTMI), a Montana corporation, for the payment of certain response costs incurred at the Jefferson City Residential Yards Site in Jefferson City, Jefferson County, Montana (Site).

The Site consists of 19 residential yards, a portion of a U.S. Postal Service property, and sections of Spring Creek, in and near Jefferson City, Montana. An area known as Corbin Flats Tailings, owned by MTMI, lies upstream of the Site, and contains approximately 500,000 cubic yards of tailings. Precipitation events, snowmelt runoff, and other events have caused the tailings, which are contaminated with elevated levels of lead and arsenic, to move downstream along Spring Creek, and these materials were deposited in certain residential yards at the Site.

The EPA's response actions at the Site included excavation of contaminated soils, backfilling with clean soils, and re-grading and disposal of the contaminated soils. The removal action was completed in December of 2010.

MTMI has agreed to pay EPA the principal amount of $372,217.14 plus interest, as a cashout settlement for a portion of the past costs expended at the Site. Payment shall be made in 35 installments of $2,500 per month with a final balloon payment of $292,500. The first payment shall be due on the first day of the month beginning 30 days after the effective date of the agreement. EPA has notified the State of Montana of this action pursuant to Section 106(a) of CERCLA.

ADDRESSES: Comments should be sent William Ross/SEE (Mail Code 8ENF-RC), Environmental Protection Agency, Region 8, 1595 Wynkoop Street, Denver, CO 80202-1129.

FOR FURTHER INFORMATION CONTACT: Mia Bearley (Mail Code 8ENF-L), Environmental Protection Agency, Region 8, 1595 Wynkoop Street, Denver, CO 80202-1129, (303) 312-6554.

Comments should be sent to: Environmental Protection Agency, Region 8, William Ross/SEE (Mail Code 8ENF-RC), Environmental Protection Agency, Region 8, 1595 Wynkoop Street, Denver, CO 80202-1129.

Dated: May 29, 2013.
Eddie A. Sierra,
Acting Assistant Regional Administrator, Office of Enforcement, Compliance and Environmental Justice, EPA, Region 8.

[FR Doc. 2013-14516 Filed 6-17-13; 8:45 am]

BILLING CODE 6560-50-P